DEPARTMENT OF ENERGY

[OE Docket No. PP-371]

Application for Presidential Permit; Northern Pass Transmission LLC

AGENCY: Office of Electricity Delivery and Energy Reliability, DOE.

ACTION: Notice of application.

SUMMARY: Northern Pass Transmission LLC (Northern Pass) has applied for a Presidential permit to construct, operate, maintain, and connect an electric transmission line across the United States border with Canada.

DATES: Comments, protests, or requests to intervene must be submitted on or before December 16, 2010.

ADDRESSES: Comments, protests, or requests to intervene should be addressed as follows: Brian Mills, Office of Electricity Delivery and Energy Reliability (OE-20), U.S. Department of Energy, 1000 Independence Avenue, SW., Washington, DC 20585.

FOR FURTHER INFORMATION CONTACT: Brian Mills (Program Office) at 202-586-8267 or via electronic mail at Brian.Mills@hq.doe.gov, or Michael T. Skinker (Program Attorney) at 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038.

On October 14, 2010, Northern Pass filed an application with the Office of Electricity Delivery and Energy Reliability of the Department of Energy (DOE) for a Presidential permit. Northern Pass is jointly owned by NU Transmission Ventures, Inc. (75% owner), a wholly-owned subsidiary of Northeast Utilities, a publicly held public utility holding company, and NSTAR Transmission Ventures, Inc. (25% owner), a wholly-owned subsidiary of NSTAR, a publicly held public utility holding company.

The proposed international transmission line would originate at a high-voltage direct current (HVDC) converter terminal to be constructed at the Des Canton Substation in Quebec, Canada, from which a single circuit ± 300 kilovolt (kV) HVDC overhead electric transmission line would extend southward in Province of Quebec for approximately 45 miles where it would cross the Canada-U.S. border into Coos County, New Hampshire. In New Hampshire the proposed HVDC transmission line would continue southward for approximately 140 miles to a proposed converter terminal to be constructed in Franklin, New Hampshire. At the Franklin converter terminal the electric energy would be converted from direct current to 345-kV alternating current (AC). The single circuit overhead 345-kV AC line would continue another 40 miles to Public Service Company of New Hampshire's existing Deerfield Substation, located in Deerfield, New Hampshire. Facilities to be constructed in Canada would be owned and operated by Hydro-Quebec TransEnergie, a division of Hydro-Quebec. The 180 miles of transmission inside the United States and the Franklin converter terminal would be owned and operated by Northern Pass. The proposed international transmission facilities would enable the bidirectional transmission of 1,200 megawatts (MW) of power between Quebec, Canada, and New England.

Since the restructuring of the electric power industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the Federal Power Act and articulated in Federal Energy Regulatory Commission (FERC) Order No. 888 (Promoting Wholesale Competition Through Open Access Non-Discriminatory Transmission Services by Public Utilities; FERC Stats. & Regs. ¶ 31,036 (1996)), as amended. In furtherance of this policy, DOE invites comments on whether it would be appropriate to condition any Presidential permit issued in this proceeding on compliance with these open access principles.

Procedural Matters: Any person desiring to become a party to this proceeding or to be heard by filing comments on, or protests to, this application should file a petition to intervene, comment, or protest at the address provided above in accordance with §§ 385.211 or 385.214 of FERC's Rules of Practice and Procedures (18 CFR 385.211, 385.214). Fifteen copies of each petition and protest should be filed with DOE on or before the date listed above.

Additional copies of such petitions to intervene, comments, or protests should also be filed directly with: Anne Bartosewicz, Northeast Utilities, 107 Selden Street, Berlin, CT 06037 AND Mary Anne Sullivan, Hogan Lovells, LLP, 555 13th St., NW., Washington, DC 20004.

Before a Presidential permit may be issued or amended, DOE must determine that the proposed action is in the public interest. In making that determination, DOE considers the environmental impacts of the proposed project pursuant to the National Environmental Policy Act of 1969, determines the project's impact on electric reliability by ascertaining whether the proposed project would adversely affect the operation of the U.S. electric power supply system under normal and contingency conditions, and any other factors that DOE may also consider relevant to the public interest. Also, DOE must obtain the concurrences of the Secretary of State and the Secretary of Defense before taking final action on a Presidential permit application.

Copies of this application will be made available, upon request, for public inspection and copying at the address provided above, by accessing the program Web site at http://www.oe.energy.gov/permits_pending.htm, or by e-mailing Odessa Hopkins at Odessa.hopkins@hq.doe.gov.

Issued in Washington, DC, on November 9, 2010.
Anthony J. Como,
Director, Permitting and Siting, Office of Electricity Delivery and Energy Reliability.

[FR Doc. 2010-28811 Filed 11-15-10; 8:45 am]

BILLING CODE 6450-01-P